ENVIRONMENTAL PROTECTION AGENCY

[FRL-7841-9]

Clean Air Scientific Advisory Committee Science Advisory Board (SAB) Staff Office Clean Air Scientific Advisory Committee (CASAC) Ozone Review Panel; Additional Opportunity To Submit Nominations

AGENCY: Environmental Protection Agency (EPA).

ACTION: Notice.

SUMMARY: The U.S. Environmental Protection Agency (EPA or Agency) Science Advisory Board (SAB) Staff Office is reopening the public nomination process for experts to serve on the Clean Air Scientific Advisory Committee (CASAC) Ozone Review Panel (Panel), and is hereby soliciting additional nominations for this Panel.

DATES: New nominations should be submitted by December 8, 2004.

FOR FURTHER INFORMATION CONTACT: Any member of the public wishing further information regarding this Request for Nominations may contact Mr. Fred Butterfield, Designated Federal Officer (DFO), EPA Science Advisory Board Staff, at telephone/voice mail: (202) 343-9994; or via e-mail at: butterfield.fred@epa.gov. General information concerning the CASAC or the SAB can be found on the EPA Web site at: http://www.epa.gov/sab.

SUPPLEMENTARY INFORMATION: Background: The CASAC, which comprises seven members appointed by the EPA Administrator, was established under section 109(d)(2) of the Clean Air Act (42 U.S.C. 7409) as an independent scientific advisory committee, in part to provide advice, information and recommendations on the scientific and technical aspects of issues related to air quality criteria and NAAQS under sections 108 and 109 of the Act. The CASAC is a Federal advisory committee chartered under the Federal Advisory Committee Act (FACA), as amended, 5 U.S.C., App.

The SAB Staff Office previously announced in the Federal Register in June 2003 (68 FR 35212, June 12, 2003) the formation of the CASAC Ozone Review Panel, to conduct reviews of EPA's updated ambient air quality criteria and the science-based national ambient air quality standards (NAAQS) for ozone and other photochemical oxidants. The Ozone Review Panel will consist of the seven members of the statutory (chartered) CASAC and additional experts as necessary to provide advice and recommendations related to the science of ozone and other photochemical oxidants. The Ozone Review Panel will comply with the provisions of FACA and all appropriate SAB Staff Office procedural policies.

In response to the June 12, 2003 notice in the Federal Register, the SAB Staff Office has received nominations for additional scientific experts and has previously published a “Short List” of candidates on the SAB Web site (http://www.epa.gov/sab) for the purpose of soliciting public comments. Given the lengthy period of time that has elapsed since its first announcement, the SAB Staff Office is reopening the public nomination process for experts to serve on this Panel. Nominator's Assessment of Expertise. When submitting nominations to the CASAC Ozone Review Panel, please explicitly indicate the specific areas of expertise the candidate could contribute. The CASAC requests nominees who are recognized, national-level experts in one or more of the following disciplines:

(a) Atmospheric Science. Expertise in physical/chemical properties of ozone and other photochemical oxidants, their precursor substances, and atmospheric processes involved in the formation, transport, and degradation of ozone and other photochemical oxidants in the atmosphere, including interaction with global climate and stratospheric ozone. Also, expertise in the evaluation of natural and man-made (anthropogenic) sources and emissions of precursors of tropospheric ozone and other photochemical oxidants, pertinent monitoring/measurement methods for such substances, and spatial/temporal trends in atmospheric concentrations of them.

(b) Exposure and Risk Assessment/Modeling. Expertise in measuring human population exposure to ozone and/or in modeling human exposure to ambient and indoor pollutants. Also, expertise in human health risk analysis modeling for ozone or other pollutants causing respiratory and/or other non-cancer health effects.

(c) Ecological Effects and Resource Valuation. Expertise in evaluation of: patterns of exposure to ozone and/or other photochemical oxidants of ornamental and/or agricultural plants and/or natural ecosystems and their components; effects of ozone and other photochemical oxidants on natural ecosystems (especially terrestrial) and their components (both flora and fauna), ranging from biochemical/sub-cellular effects and identification of indicators of pathophysiological effects at the individual plant level, to effects on species and populations, on up to include impacts on increasingly more complex (e.g., landscape) levels of ecosystem organization. Also, expertise in (i) ecosystem risk assessment and (ii) ecological resource valuation/economics.

(d) Dosimetry. Expertise in conducting and/or evaluation of the dosimetry of animal and human subjects, and animal-to-human dosimetry extrapolations, including identification of factors determining differential patterns of inhalation and/or deposition/uptake in respiratory tract regions that may contribute to differential susceptibility of human population subgroups to ozone and other photochemical oxidants.

(e) Toxicology. Expertise in conducting and/or evaluation of experimental laboratory animal studies of the potential health effects of ozone and/or other photochemical oxidants on respiratory and non-respiratory (e.g., lung defense/other immune function mechanisms) endpoints.

(f) Controlled Human Exposure. Expertise in conducting and/or evaluation of controlled human exposure studies of the effects of ozone and other photochemical oxidants on healthy and compromised (having pertinent preexisting chronic disease, e.g., asthma) human adults and children, including medical doctors (M.D.) with experience in the clinical treatment of asthma.

(g) Epidemiology and Biostatistics. Expertise in epidemiological evaluation of the effects of exposures to ozone and other photochemical oxidants and/or other ambient air co-pollutants on human population groups, including effects on mortality and/or morbidity (e.g., respiratory symptoms, lung function decrements, asthma medication use, respiratory-related hospital admissions) endpoints. Also, expertise in associated biostatistics and/or health risk analysis.

Process and Deadline for Submitting Nominations: Any interested person or organization may nominate qualified individuals to add expertise to the CASAC Ozone Review Panel in the areas of expertise described above. Nominations should be submitted in electronic format through the Form for Nominating Individuals to Panels of the EPA Science Advisory Board provided on the SAB Web site, http://www.epa.gov/sab, which can be accessed through a link on the blue navigational bar on the SAB Web page. To be considered, all nominations must include the information required on that form. Please note that there is no need to resubmit a nomination for an individual who has previously been nominated for the CASAC Ozone Review Panel.

Anyone who is unable to submit nominations using this form, and any questions concerning any aspects of the nomination process may contact Mr. Fred Butterfield, DFO, as indicated above in this notice. Nominations should be submitted in time to arrive no later than December 8, 2004.

To be considered, all nominations must include: (a) a current biography, curriculum vitae (C.V.) or resume, which provides the nominee's background, experience and qualifications for the Panel; and (b) a brief biographical sketch (“biosketch”). The biosketch should be no longer than one page and must contain the following information for the nominee:

(I) Current professional affiliations and positions held;

(ii) Area(s) of expertise, and research activities and interests;

(iii) Leadership positions in national associations or professional publications or other significant distinctions;

(iv) Educational background, especially advanced degrees, including when and from which institutions these were granted;

(v) Service on other advisory committees, professional societies, especially those associated with issues under discussion in this review; and

(vi) Sources of recent (i.e., within the preceding two years) grant and/or other contract support, from government, industry, academia, etc., including the topic area of the funded activity.

Please note that even if there is no responsive information (e.g., no recent grant or contract funding), this must be indicated on the biosketch (by “N/A” or “None”). Incomplete biosketches will result in nomination packages not being accepted.

The EPA SAB Staff Office will acknowledge receipt of the nomination. From the nominees identified by respondents to this notice (termed the “Widecast”), the SAB Staff Office will develop a smaller subset (known as the “Short List”) for more detailed consideration. Criteria used by the SAB Staff in developing this Short List are given at the end of the following paragraph. The Short List will be posted on the SAB Web site at: http://www.epa.gov/sab, and will include, for each candidate, the nominee's name and their biosketch. Public comments will be accepted for 21 calendar days on the Short List. During this comment period, the public will be requested to provide information, analysis or other documentation on nominees that the SAB Staff Office should consider in evaluating candidates for the Panel.

For the EPA SAB Staff Office, a balanced subcommittee or review panel is characterized by inclusion of candidates who possess the necessary domains of knowledge, the relevant scientific perspectives (which, among other factors, can be influenced by work history and affiliation), and the collective breadth of experience to adequately address the charge. Public responses to the Short List candidates will be considered in the selection of the Panel, along with information provided by candidates and information independently-gathered by the SAB Staff Office on the background of each candidate (e.g., financial disclosure information and computer searches to evaluate a nominee's prior involvement with the topic under review). Specific criteria to be used in evaluating an individual member of the Panel include: (a) Scientific and/or technical expertise, knowledge, and experience (primary factors); (b) availability and willingness to serve; (c) absence of financial conflicts of interest; (d) scientific credibility and impartiality; and (e) skills working in advisory committees, subcommittees and review panels. CASAC Ozone Review Panel members will likely be asked to attend two to three public, face-to-face meetings and several public teleconference meetings per year over the anticipated two- to-five-year course of the Panel's activity.

Short List candidates will also be required to fill-out the “Confidential Financial Disclosure Form for Special Government Employees Serving on Federal Advisory Committees at the U.S. Environmental Protection Agency” (EPA Form 3110-48). This confidential form allows Government officials to determine whether there is a statutory conflict between that person's public responsibilities (which includes membership on an EPA Federal advisory committee) and private interests and activities, or the appearance of a lack of impartiality, as defined by Federal regulation. The form may be viewed and downloaded from the following URL address: http://www.epa.gov/sab/pdf/epaform3110-48.pdf.

The approved policy under which the EPA SAB Office selects subcommittees and review panels is described in the following document: Overview of the Panel Formation Process at the Environmental Protection Agency Science Advisory Board (EPA-SAB-EC-02-010), which is on the SAB Web site at: http://www.epa.gov/sab/pdf/ec02010.pdf.

Dated: November 18, 2004.
Vanessa T. Vu,
Director, EPA Science Advisory Board Staff Office.

[FR Doc. 04-26081 Filed 11-23-04; 8:45 am]

BILLING CODE 6560-50-P